DEPARTMENT OF HEALTH AND HUMAN SERVICES

Centers for Disease Control and Prevention

[Program Announcement 03095]

Evaluation of Web-Based HIV Risk Behavior Surveillance Among Men Who Have Sex With Men; Notice of Availability of Funds

Application Deadline: July 9, 2003.

A. Authority and Catalog of Federal Domestic Assistance Number

This program is authorized under section 301(a) and 317K(2) of the Public Health Service Act, (42 U.S.C. 241(a) and 274b (k)(2)), as amended. The Catalog of Federal Domestic Assistance number is 93.943.

B. Purpose

The Centers for Disease Control and Prevention (CDC) announces the availability of fiscal year (FY) 2003 funds for a cooperative agreement program for evaluating web-based risk behavior surveillance among men who have sex with men (MSM). This program addresses the “Healthy People 2010” focus area of HIV.

The purpose of the program is to: (1) Field test Internet-based behavioral surveillance as an alternate venue for the national behavioral surveillance system; (2) identify the proportion of men who have sex with men (MSM) who are internet users and who do not attend venues where MSM are more commonly known to attend (MSM-identified venues); and (3) examine the comparability of behavioral risks between MSM recruited through Internet-based versus more traditional venue-based sampling methods.

Measurable outcomes of the program will be in alignment with the following performance goal for the National Center for HIV/STB/TB Prevention (NCHSTP): Strengthen the capacity nationwide to monitor the epidemic, develop and implement effective HIV prevention interventions and evaluate prevention programs.

Background

A national behavioral surveillance system for MSM is expected to begin in 20 United States cities in 2003 using a venue-based, time-space sampling method. While several studies suggest that venue-based sampling is representative of most MSM, an increasing proportion of MSM may be using the Internet to meet sex partners and may not be available for sampling through a more traditional venue-based approach. Previous reports have identified high Internet usage (50 to 75 percent) and seeking of sex partners through the Internet (35 to 67 percent) among MSM. An outbreak of syphilis was also identified among an Internet-originated network of MSM denoting that men who meet partners through the Internet are at risk of acquiring sexually transmitted diseases. (For additional information please see Klausner JD, et al. “Tracing a syphilis outbreak through cyberspace” JAMA 2000; 284(4): 447-9.) Other studies have shown that an Internet-based approach to collecting behavioral risk data are comparable to more conventional methods such as mail, telephone and in-person surveys, and may be superior in sampling MSM that are hard to reach at traditional MSM venues. Methodologies have also been developed to address confidentiality and duplication of data.

C. Eligible Applicants

Applications may be submitted by sites that are currently funded by CDC to conduct behavioral surveillance under Program Announcement 00005, entitled, “HIV/AIDS Surveillance Cooperative Agreements,” and other specified sites that are eligible to apply for funding in 2003.

These other sites are the state or local health departments whose jurisdictions include the top 15 Metropolitan Statistical Areas (MSA's) by number of people living with AIDS at the end of 1999 as reported in “HIV/AIDS Surveillance Supplemental Report,” (2000; 7(No.1: 10-11).

These sites are the directly funded city health departments of:

New York City, NY; Los Angeles, CA; San Francisco, CA; Chicago, IL; Houston, TX; Philadelphia, PA.

These sites are the state health departments containing the following MSA's:

Washington, DC; Miami, FL and Ft Lauderdale, FL; Atlanta, GA; Boston, MA; Baltimore, MD; San Juan, PR; Newark, NJ; Dallas, TX.

An additional five areas are also eligible to apply in 2003: these are State health departments containing the following MSAs:

Detroit, MI; New Haven, CT; New Orleans, LA; San Diego, CA; Seattle, WA.

One of the purposes of this program is to compare the web-based behavioral surveillance project with the new national behavioral surveillance initiative. This requires that project activities be conducted in the same project areas previously funded for comparability of data.

Note: Title 2 of the United States Code section 1611 states that an organization described in section 501(c)(4) of the Internal Revenue Code that engages in lobbying activities is not eligible to receive Federal funds constituting an award, grant or loan.

D. Funding

Availability of Funds

Approximately $500,000 is available in FY 2003, to fund approximately four awards. It is expected that the average award will be $125,000, ranging from $125,000 to $250,000. It is expected that the awards will begin on or about August 1, 2003, and will be made for a 12-month budget period within a project period of up to three years. Funding estimates may change.

Continuation awards within an approved project period will be made on the basis of satisfactory progress as evidenced by required reports and the availability of funds.

Use of Funds

Funds are awarded for a specifically defined purpose and may not be used for any other purpose or program. Funds may be used to support personnel and to purchase equipment, supplies, and services directly related to project activities. Funds may not be used to supplant state or local health department funds available for HIV Prevention and Surveillance. Funds may not be used to provide direct medical care or prevention case management.

Funding Preference

Funding preferences may be given to achieve geographic distribution.

Recipient Financial Participation

Matching funds are not required for this program.

E. Program Requirements

In conducting activities to achieve the purpose of this program, the recipient will be responsible for the activities listed under 1. Recipient Activities, and CDC will be responsible for the activities listed under 2. CDC Activities.

1. Recipient Activities

a. Collaborate with CDC and other funded sites to develop a protocol for an Internet-based behavioral surveillance project.

b. Participate in required planning meetings with other funded sites and CDC.

c. Conduct formative research to determine sites (chat rooms, Web sites, etc.) in which recruitment of study participants will occur.

d. Collaborate with CDC and other funded sites to develop and test an Internet-based behavioral risk factor survey.

e. Collaborate with CDC and other funded sites to identify or develop a local project Web site where the survey instrument will reside.

f. In accordance with a study protocol, administer the survey to a minimum of 500 MSM sampled through time-space or probability sampling methods, including significant representation of persons of color.

g. Collaborate with CDC and other funded sites to develop and implement a local public information campaign.

h. Maintain a secure environment to protect the security and confidentiality of data obtained in this activity.

i. Report project data to CDC in a timely manner according to established protocols for data collection, quality assurance, storage and transfer.

j. Disseminate findings for use in state/local prevention and treatment services planning and evaluation.

2. CDC Activities

a. Develop and test an Internet-based survey instrument.

b. Create and maintain a project database and data management system, including systems to address data security and duplication of participants.

c. Provide technical assistance and expertise for Web site selection and development.

d. Provide technical support on all web-based technologies, software and data base issues.

e. Facilitate the development of site-specific operational plans.

f. Provide technical assistance to support implementation of agreed upon methods to accomplish project objectives.

g. Participate in the analysis and dissemination of data. Conduct and/or coordinate analyses of the multi-site data and distribute information to support national HIV prevention and surveillance efforts.

F. Content

Applications

The Program Announcement title and number must appear in the application. Use the information in the Program Requirements, Other Requirements, and Evaluation Criteria sections to develop the application content. Your application will be evaluated on the criteria listed, so it is important to follow them in laying out your program plan. The narrative should be no more than 20 pages, double-spaced, printed on one side, with one-inch margins, and unreduced 12-point font. Include evidence of your ability to target racial/ethnic minority populations and enroll samples of racial/ethnic minority MSM through the Internet.

The narrative should consist of, at a minimum, a Plan, Objectives, Methods, Evaluation and Budget. The program plan should address activities to be conducted over the entire three-year project period. The budget must cover the first one-year budget period.

In addition, CDC is particularly interested in promoting improved understanding of behavioral risk factors in communities of color. Therefore, all applicants are encouraged to include a plan that directly addresses how racial/ethnic minorities will be reached through this project.

G. Submission and Deadline

Application Forms

Submit the signed original and two copies of PHS 5161-1 (OMB Number 0920-0428). Forms are available at the following Internet address: http://www.cdc.gov/od/pgo/forminfo.htm.

If you do not have access to the Internet, or if you have difficulty accessing the forms on-line, you may contact the CDC Procurement and Grants Office Technical Information Management Section at: 770-488-2700. Application forms can be mailed to you.

Submission Date, Time, and Address

The application must be received by 4 p.m. eastern time July 9, 2003. Submit the application to:

Technical Information Management-PA# 03095, CDC Procurement and Grants Office, Centers for Disease Control and Prevention, 2920 Brandywine Road, Atlanta, GA 30341-4146.

Applications may not be submitted electronically.

CDC Acknowledgement of Application Receipt

A postcard will be mailed by PGO-TIM, notifying you that CDC has received your application.

Deadline

Applications shall be considered as meeting the deadline if they are received before 4 p.m. eastern time on the deadline date. Any applicant who sends their applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition and will be discarded. Applicants will be notified of their failure to meet the submission requirements.

H. Evaluation Criteria

Application

Applicants are required to provide measures of effectiveness that will demonstrate the accomplishment of the various identified objectives of the cooperative agreement. Measures of effectiveness must relate to the performance goal stated in section “B. Purpose” of this announcement. Measures must be objective and quantitative and must measure the intended outcome. These measures of effectiveness shall be submitted with the application and shall be an element of evaluation.

An independent review group appointed by CDC will evaluate each application against the following criteria:

1. The quality of the applicant's plan to develop, implement and administer the project operations and the degree to which the objectives and time schedules are reasonable, time-phased, address activities to be conducted over the entire three-year project period, and are appropriate for accomplishing project goals. The extent to which the applicant provides evidence of their ability to implement the proposed methodology. The quality of the applicants plan to address Recipient Activities outlined in the “Program Requirements” section of this announcement.

The degree to which the applicant has met the CDC policy requirements regarding the inclusion of ethnic and racial groups in the proposed research. This includes:

(1) The proposed plan for the inclusion of both sexes, racial and ethnic minority populations for appropriate representation.

(2) The proposed justification when representation is limited or absent.

(3) A statement as to whether the design of the study is adequate to measure differences when warranted.

(4) A statement as to whether the plans for recruitment and outreach for study participants include the process of establishing partnerships with community(ies) and recognition of mutual benefits. (45 points.)

2. The degree to which the qualifications, duties, responsibilities, and time allocation of proposed staff (including potential contractors), are justified and appropriate to accomplish study objectives. The degree to which the proposed staff will be able to provide appropriate scientific oversight, as well as programmatic and administrative support for the proposed activities. The extent to which collaborating entities (e.g., community groups, community gatekeepers, CBOs, behavioral scientists) are appropriate (i.e., meet specific needs), sufficient, promote project objectives, and document their ability in letters of support. (30 points.)

3. The degree to which the applicant provides evidence of their understanding of the project and objectives. (25 points.)

4. The extent to which the budget, which should cover the first one-year budget period, is reasonable, clearly justified, and consistent with the intended use of funds. (Not scored.)

5. Does the application adequately address the requirements of title 45 CFR part 46 for the protection of human subjects? Not scored; however, an application can be disapproved if the research risks are sufficiently serious and protection against risks is so inadequate as to make the entire application unacceptable.

I. Other Requirements

Technical Reporting Requirements

Provide CDC with original plus two copies of:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of the program announcement as posted on the CDC Web site.

AR-1 Human Subjects Requirements

AR-2 Requirements for Inclusion of Women and Racial and Ethnic Minorities in Research

AR-4 HIV/AIDS Confidentiality Provisions

AR-7 Executive Order 12372 Review

AR-8 Public Health System Reporting Requirements

AR-9 Paperwork Reduction Act Requirements

AR-10 Smoke-Free Workplace Requirements

AR-11 Healthy People 2010

AR-12 Lobbying Restrictions

AR-14 Accounting System Requirements

AR-22 Research Integrity

J. Where to Obtain Additional Information

This and other CDC announcements, the necessary applications, and associated forms can be found on the CDC Web site, Internet address: http://www.cdc.gov.

Click on “Funding” then “Grants and Cooperative Agreements”.

For general questions about this announcement, contact: Technical Information Management, CDC Procurement and Grants Office, 2920 Brandywine Road, Atlanta, GA 30341-4146. Telephone: 770-488-2700.

For business management and budget assistance, contact: Brenda Hayes, Grants Management Specialist, CDC Procurement and Grants Office, 2920 Brandywine Road, Atlanta, GA 30341-4146. Telephone: 770-488-2741. E-mail address: bkh4@cdc.gov.

For program technical assistance, contact: Ken Bell, Public Health Advisor, Behavioral and Clinical Surveillance Branch, National Center for HIV, STD and TB Prevention, Centers for Disease Control and Prevention, 1600 Clifton Road Mailstop E46, Atlanta, GA 30333. Telephone: 404-639-2970. E-mail address: kbell@cdc.gov.

Dated: June 3, 2003.
Sandra R. Manning,
Director, Procurement and Grants Office, Centers for Disease Control and Prevention.

[FR Doc. 03-14386 Filed 6-6-03; 8:45 am]

BILLING CODE 4163-18-P